DEPARTMENT OF TRANSPORTATION

Federal Motor Carrier Safety Administration

49 CFR Parts 384 and 386

[Docket No. FMCSA-2023-0174]

RIN 2126-AC60

General Technical, Organizational, Conforming, and Correcting Amendments to the Federal Motor Carrier Safety Regulations; Correction

AGENCY: Federal Motor Carrier Safety Administration (FMCSA), Department of Transportation (DOT).

ACTION: Correcting amendments.

SUMMARY: In a final rule published in the Federal Register on November 17, 2023, FMCSA amended its regulations by making technical corrections throughout the Federal Motor Carrier Safety Regulations (FMCSRs). The final rule had an incorrect paragraph number in the instruction for an amendment and, in an amendment replacing a term, erroneously failed to replace the possessive form of the term. The Agency corrects these errors.

DATES: This correction is effective January 5, 2024.

FOR FURTHER INFORMATION CONTACT: Mr. Nicholas Warren, Regulatory Development Division, Office of Policy, FMCSA, 1200 New Jersey Avenue SE, Washington, DC 20590-0001; (202) 366-6124; nicholas.warren@dot.gov.

SUPPLEMENTARY INFORMATION: On November 17, 2023, FMCSA published a final rule (88 FR 80169) that amended its regulations by making technical corrections throughout the FMCSRs. The rule made minor changes to correct inadvertent errors and omissions, remove or update obsolete references, and improve the clarity and consistency of certain regulatory provisions. The rule also made a change to its rules of organization, procedures, and practice. Through this document, FMCSA corrects two errors in that final rule.

Correction

First, in amendment no. 48, the instruction incorrectly identified paragraph (b)(2) of § 384.209 as one of the paragraphs revised in that amendment. The correct paragraph is (b)(1), as shown in the regulatory text in that amendment. The amendment was carried out as intended, but FMCSA in this document is correcting the instruction for the record.

Therefore, in FR Doc. 2023-24160 appearing on page 80169 in the Federal Register of November 17, 2023, the following correction is made:

§ 384.209 [Corrected]

1. On page 80182, in the first column, in amendment 48, the instruction “Amend § 384.209 by revising paragraphs (a)(1) and (b)(2) to read as follows:” is corrected to read “Amend § 384.209 by revising paragraphs (a)(1) and (b)(1) to read as follows:”.

Second, amendment no. 56 replaced the text “Assistant Administrator” with the text “Agency Decisionmaker” throughout most of part 386. However, the amendment inadvertently omitted an instruction replacing the possessive form “Assistant Administrator's” with “Agency Decisionmaker's” which appears in a few sections of the part. This document provides an amendment to replace that possessive form accordingly.

List of Subjects in 49 CFR Part 386

Administrative practice and procedure, Brokers, Freight forwarders, Hazardous materials transportation, Highway safety, Highways and roads, Motor carriers, Motor vehicle safety, Penalties.

In consideration of the foregoing, FMCSA amends 49 CFR part 386 by making the following correcting amendments:

PART 386—RULES OF PRACTICE FOR FMCSA PROCEEDINGS

1. The authority citation for part 386 continues to read as follows:

Authority: 28 U.S.C. 2461 note; 49 U.S.C. 113, 1301 note, 31306a; 49 U.S.C. chapters 5, 51, 131-141, 145-149, 311, 313, and 315; and 49 CFR 1.81, 1.87.

§ 386.64 [Amended]

2. Amend § 386.64 in paragraph (e) by removing the text “Assistant Administrator's” and adding in its place the text “Agency Decisionmaker's”.

§ 386.66 [Amended]

3. Amend § 386.66 in paragraph (a) introductory text by removing the text “Assistant Administrator's” and adding in its place the text “Agency Decisionmaker's”.

§ 386.73 [Amended]

4. Amend § 386.73 in paragraphs (g)(8) introductory text, (g)(9), and (h)(7) by removing the text “Assistant Administrator's” and adding in its place the text “Agency Decisionmaker's”.

Issued under authority delegated in 49 CFR 1.87.
Larry W. Minor,
Associate Administrator for Policy.

[FR Doc. 2024-00016 Filed 1-4-24; 8:45 am]

BILLING CODE 4910-EX-P